DEPARTMENT OF JUSTICE

Notice of Lodging of Partial Consent Decree Under the Solid Waste Disposal Act (a.k.a the Resource Conservation and Recovery Act, ”RCRA”)

Under 28 CFR 50.7, notice is hereby given that on December 3, 2004, a complaint was filed and a proposed consent Decree was lodged in United States v. United States Ceramic Tile Company, et al., Civil Action Number 5:04 CV 2394, with the United States District Court for the Northern District of Ohio.

This Consent Decree resolves specified claims against the United States Ceramic Tile Company (“U.S. Ceramic“) under the Solid Waste Disposal Act, 42 U.S.C.A. 6901, et seq. U.S. Ceramic Tile owns and operates a ceramic tile manufacturing facility at 10233 Sandyville Road, East Sparta, Ohio.

The proposed consent decree obligates U.S. Ceramic to (1) undertake certain additional work to correct the improper closure of its facility's surface impoundment and waste pile; (2) pay $1.27 million in stipulated penalties for all of its violations of a prior court filed consent decree; and (3) conduct investigations of and perform all corrective measures necessary at its facility solid waste management units.

The Department of Justice will receive for a period of thirty (30) days from the date of this publication comments relating to the proposed consent decree. Comments should be addressed to the Assistant Attorney General, Environment and Natural Resources Division, P.O. Box 7611, U.S. Department of Justice, Washington, DC 20044-7611, and should refer to United States v. United States Ceramic Tile Company, et al., D.J. Ref. 90-7-1-376C.

The proposed consent decree may be examined at U.S. EPA Region V, 77 West Jackson Blvd, Chicago, IL 60604-3590. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed consent decree, please enclose a check in the amount of $45.75, payable to the U.S. Treasury, for reproduction costs.

William D. Brighton,
Assistant Chief, Environmental Enforcement Section, Environment and Natural Resources Division.

[FR Doc. 04-28044 Filed 12-22-04; 8:45 am]

BILLING CODE 4410-15-M